DEPARTMENT OF COMMERCE

International Trade Administration

[C-570-153]

Certain Paper Shopping Bags From the People's Republic of China: Preliminary Affirmative Determination of Countervailable Subsidies, Preliminary Affirmative Determination of Critical Circumstances, and Alignment of Final Determination With Final Antidumping Duty Determination; Correction

AGENCY: Enforcement and Compliance, International Trade Administration, Department of Commerce.

ACTION: Notice; correction.

SUMMARY: The U.S. Department of Commerce (Commerce) published a notice in the Federal Register of November 6, 2023, in which Commerce announced its preliminary determination in the countervailing duty (CVD) investigation of certain paper shopping bags (paper bags) from the People's Republic of China (China). This notice incorrectly spelled two of the company names listed in the table in the “Preliminary Determination” section.

FOR FURTHER INFORMATION CONTACT: Seth Brown, AD/CVD Operations, Office IX, Enforcement and Compliance, International Trade Administration, U.S. Department of Commerce, 1401 Constitution Avenue NW, Washington, DC 20230; telephone: (202) 482-0029.

SUPPLEMENTARY INFORMATION:

Correction

In the Federal Register of November 6, 2023, in FR Doc 2023-24473, on page 76181, in the second column, correct the spelling of the following company names in the table in the “Preliminary Determination” section as follows: Qingdao Chenyu Packaging Co., Ltd. and Shanghai Sanxi Paper Co., Ltd.

Background

On November 6, 2023, Commerce published in the Federal Register its preliminary determination in the CVD investigation of paper bags from China.¹ In the preliminary determination notice in the table in the “Preliminary Determination” section, Commerce incorrectly spelled the names of Qingdao Chenyu Packaging Co., Ltd. and Shanghai Sanxi Paper Co., Ltd. as “Qindao Chenyu Packaging Co., Ltd.” and “Shanghai Shanxi Paper Co., Ltd.,” respectively.

¹ See Certain Paper Shopping Bags From the People's Republic of China: Preliminary Affirmative Determination of Countervailable Subsidies, Preliminary Affirmative Determination of Critical Circumstances, and Alignment of Final Determination With Final Antidumping Duty Determination, 88 FR 76180 (November 6, 2023).

Notification to Interested Parties

This notice is issued and published in accordance with sections 703(f) and 777(i)(1) of the Tariff Act of 1930, as amended, and 19 CFR 351.205(c).

Dated: November 13, 2023.
Abdelali Elouaradia,
Deputy Assistant Secretary for Enforcement and Compliance.

[FR Doc. 2023-25468 Filed 11-16-23; 8:45 am]

BILLING CODE 3510-DS-P